DEPARTMENT OF ENERGY

Federal Energy Regulatory Commission

Notice of Interstate Natural Gas Facility-Planning Seminar

August 18, 2000.

The Office of Energy Projects is initiating a series of public meetings around the country for the purposes of exploring and enhancing strategies for constructive public participation in the earliest stages of natural gas facility planning. The first meeting will be held in Albany, New York on Tuesday, September 26, 2000. We are inviting interstate natural gas companies; Federal, state and local agencies; landowners and other non-governmental organizations with an interest in developing a new way of doing business to join us in this effort. We will discuss the facility planning process, not the merits of any pending or planned pipelines projects.

Presentations will be made by the staff of the Commission's Office of Energy Projects, various Federal and state agencies, representatives from natural gas companies, and private landowners who have had relevant experiences. Join us as we explore how the natural gas industry has responded to the recent Commission regulations governing project notification for affected parties and learn about new strategies being employed within various gas companies to engage the public and agencies in participatory project design. There Will be substantial opportunity for the sharing of experiences and knowledge in interactive “brainstorming” sessions, so bring your ideas with you and prepare to share them.

The objectives of the meeting are:

• To explore ways of resolving issues during the applicant's pre-filing route planning, when the parties directly involved with and affected by natural gas facility siting and/or permitting can work together.

• To explore the best avenues for fostering settlements through creative issue resolution.

• To reduce the Commission's application processing time by encouraging the submission of filings with no or few contested issues.

The result will be the development of a toolbox of the best options to take to achieve faster approval by the Commission for projects required by the public convenience and necessity, fewer conditions, and a more direct path to commencement of construction.

The meeting in Albany, New York will be held at the Albany Marriott located at 189 Wolf Road, (518) 458-8444. The meeting is scheduled to start at 10:00 AM and finish at 4:00 PM. A preliminary agenda and directions to the hotel are enclosed. See attachment 2 regarding the selection of locations of future meetings.

If you plan to attend or have suggestions for the agenda, please respond by September 8, 2000 via facsimile to Pennie Louis-Partee at 202/219-2722, or you can email our team at: gasoutreach@ferc.fed.us. Please include in the response the names, addresses, and the telephone numbers of all attendees from your organization.

To help us enhance our panel discussions, please consider issues and/or questions you would like to have addressed at the meetings. If you have any questions, you may contact any of the staff listed below:

Richard Hoffmann 202/208-0066

Lauren O'Donnell 202/208-0325

Jeff Shenot 202/219-2178

Howard Wheeler 202/208-2299

J. Mark Robinson, Director,
Director, Division of Environmental & Engineering Review, Office of Energy Projects.

Appendix 1

Agenda

Interstate Natural Gas Facility Planning Seminar, Federal Energy Regulatory Commission, Albany Meeting

September 26, 2000—10:00 am to 4:00 pm

10:00—Introductions

Welcome: Mark Robinson, Director, Division of Environmental & Engineering Review, Office of Energy Projects, FERC Rich Hoffmann, Office of Energy Projects, FERC Maureen Helmer, Chairman, New York PSC

10:15—The Pipeline Planning/Approval Process

Where FERC fits in

Who's involved and when

10:45—Perspectives on Pipeline Planning Panel #1—Initial Project Announcement

Industry Representative

Citizen Representative

Agency Representative

11:15—Break

11:25—Perspectives on Pipeline Planning Panel #2—General Route Planning

Agency Representative

Industry Representative

Citizen Representative

11:55—Morning Summary and Lunchtime Homework Assignment

12:00—Lunch

1:30—Perspectives on Pipeline Planning Panel #3—Detailed Route Planning

Citizen Representative

Agency Representative

Industry Representative

2:00—Brainstorming Session

Pre-filing BMPs from and Industry Perspective

• First announcement of the project

• How best to work with the communities

Pre-filing BMPs from an Agency Perspective

• How best to work with applicants

• How to get agency requests on the table and implemented

• How to coordinate with multiple agencies/jurisdictions

• How to work with agencies early in the process

Pre-filing BMPs from a Citizen Perspective

• How best to engage landowners

• How to get information on the need for a project

• How to describe workspace/right-of-way requirements

3:30—Closing summary

Directions to the Albany Marriott: 158 Wolf Rd, Albany, NY 12205; (518) 458-8444.

Taxis and rental cars are available at the Albany International Airport, or call the Marriott from the courtesy phone located near the baggage claim for complimentary shuttle service.

By car: From I-90 take I-87 North for three miles to exit 4 (Wolf Rd.—Albany Airport). At foot of exit, turn right at light onto Wolf Rd. and proceed to Marriott 1/2 mile on left.

Appendix 2

Future Meetings

Over the next year, we will hold other meetings at various locations around the country. Locations for the meetings will be selected based on this history of past, present and especially future pipeline projects where interstate natural gas markets are developing or expanding.

Areas we are considering for meetings include:

Tampa area or Tallahassee, Florida

Wooster, Ohio

Boston, Massachusetts/Portland, Maine area.

Springfield, Indiana area

Seattle/Puget Sound, Washington

Reno/Tahoe, Nevada or Salt Lake City, Utah area.

If you care to voice your opinion about these or other areas, please follow the instructions in the notice.

[FR Doc. 00-21605 Filed 8-23-00; 8:45 am]

BILLING CODE 6717-01-M